DEPARTMENT OF AGRICULTURE

Natural Resources Conservation Service

Soil and Water Resources Conservation Act

AGENCY: Natural Resources Conservation Service, United States Department of Agriculture.

ACTION: Notice of public meeting.

SUMMARY: The Natural Resources Conservation Service (NRCS) will hold a public meeting to gather stakeholder input on important natural resource concerns and program approaches to address these natural resource concerns in the next decade.

On June 22, 2008, Congress reauthorized the Soil and Water Resources Conservation Act (RCA), 16 U.S.C. 2001-2009, through amendments in the Food, Conservation, and Energy Act of 2008 (Pub. L. 110-246). In the reauthorization, Congress extended RCA through 2018 and called for the first report to be delivered to Congress by January 2011. RCA provides the Department of Agriculture (USDA) with broad strategic assessment and planning authority and calls for the development of a national program to guide USDA activities for the conservation, protection, and enhancement of soil, water, and related natural resources. Through RCA, USDA appraises the status and trends of soil, water, and related resources on non-Federal land; assesses their capability to meet present and future demands; evaluates current and needed programs, policies, and authorities; and develops a national soil and water conservation program to give direction for USDA soil and water conservation activities.

Public participation is a central element of the RCA process. USDA will hold listening sessions to provide the public with an opportunity to comment on conservation priorities, program approaches, future conservation needs, and opportunities to improve the appraisal process.

DATES: The meeting will be held on the following date and location:

Meeting location | Date | Local time | Co-host
Charleston Marriott Town Center, 200 Lee Street East, Charleston, West Virginia 25301 | 9/14/09 | 10:30 a.m.-12:30 p.m. | National Association of Conservation Agencies—Annual Meeting.

FOR FURTHER INFORMATION CONTACT: Denise Coleman, Acting Director, Strategic and Performance Planning Division, Department of Agriculture, Natural Resources Conservation Service, 1400 Independence Avenue, SW., Room 4237, South Building, Washington, DC 20250; Telephone: (202) 690-0467; or Fax: (202) 720-3057. Submit electronic requests for additional information to: RCA@wdc.usda.gov.

Signed this 18th day of August, 2009, in Washington, DC.
Dave White,
Chief.

[FR Doc. E9-20138 Filed 8-20-09; 8:45 am]

BILLING CODE 3410-16-P